JUDICIAL CONFERENCE OF THE UNITED STATES

Meeting of the Judicial Conference Advisory Committee on Rules of Civil Procedure

AGENCY: Judicial Conference of the United States, Advisory Committee on Rules of Civil Procedure.

ACTION: Notice of open meeting.

SUMMARY: The Advisory Committee on Rules of Civil Procedure will hold a two-day meeting. The meeting will be open to public observation but not participation. An agenda and supporting materials will be posted at least 7 days in advance of the meeting at: http://www.uscourts.gov/rules-policies/records-and-archives-rules-committees/agenda-books.

DATES: November 5-6, 2015.

Time: 8:45 a.m. to 5:00 p.m.

ADDRESSES: University of Utah, S.J. Quinney College of Law, Flynn Faculty Workshop, 332 S. 1400 E., Salt Lake City, Utah 84112.

FOR FURTHER INFORMATION CONTACT: Rebecca A. Womeldorf, Rules Committee Secretary, Rules Committee Support Office, Administrative Office of the United States Courts, Washington, DC 20544, telephone (202) 502-1820.

Dated: October 1, 2015.
Rebecca A. Womeldorf,
Rules Committee Secretary.

[FR Doc. 2015-26416 Filed 10-16-15; 8:45 am]

BILLING CODE 2210-55-P